DEPARTMENT OF HEALTH AND HUMAN SERVICES

Centers for Disease Control and Prevention

[Docket No. CDC-2023-0025]

Draft Infection Control in Healthcare Personnel: Epidemiology and Control of Selected Infections Transmitted Among Healthcare Personnel and Patients: Pregnant Healthcare Personnel Section

AGENCY: Centers for Disease Control and Prevention (CDC), Department of Health and Human Services (HHS).

ACTION: Notice with comment period.

SUMMARY: The Centers for Disease Control and Prevention (CDC), in the Department of Health and Human Services (HHS), announces the opening of a docket to obtain comment on the Draft Infection Control in Healthcare Personnel: Epidemiology and Control of Selected Infections Transmitted Among Healthcare Personnel and Patients: Pregnant Healthcare Personnel Section (“Draft Guideline: Pregnant Healthcare Personnel Section”). The Draft Guideline: Pregnant Healthcare Personnel Section updates the Guideline for infection control in health care personnel, 1998 (“1998 Guideline”), Part F: Pregnant Personnel, and its corresponding recommendations in Part II of the 1998 Guideline. The updated recommendation in the Draft Guideline: Pregnant Healthcare Personnel Section is intended for use by the leaders and staff of Occupational Health Services. This updated recommendation will help facilitate the provision of occupational infection prevention and control services to healthcare personnel (HCP) who are pregnant or intend to become pregnant.

DATES: Written comments must be received on or before June 26, 2023.

ADDRESSES: You may submit comments, identified by Docket No. CDC-2023-0025 by either of the methods listed below. Do not submit comments by email. CDC does not accept comments by email.

• Federal eRulemaking Portal: http://www.regulations.gov. Follow the instructions for submitting comments.

• Mail: Healthcare Infection Control Practices Advisory Committee (HICPAC) Secretariat, Division of Healthcare Quality Promotion, Centers for Disease Control and Prevention, 1600 Clifton Road NE, Mailstop H16-3, Atlanta, Georgia 30329, Attn: Docket Number CDC-2023-0025

Instructions: All submissions received must include the agency name and Docket Number. All relevant comments received will be posted without change to http://regulations.gov, including any personal information provided. For access to the docket to read background documents or comments received, go to http://www.regulations.gov.

FOR FURTHER INFORMATION CONTACT: Laura Wells, Division of Healthcare Quality Promotion, Centers for Disease Control and Prevention, 1600 Clifton Road NE, Mailstop H16-2, Atlanta, Georgia 30329; Telephone: (404) 639-4000.

SUPPLEMENTARY INFORMATION:

Public Participation

Interested persons or organizations are invited to participate by submitting written views, recommendations, and data related to the Draft Guideline: Pregnant Healthcare Personnel Section.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. Do not submit comments by email. CDC does not accept comments by email.

Background

The Draft Guideline: Pregnant Healthcare Personnel Section, located in the “Supporting & Related Material” tab of the docket, updates the Guideline for infection control in health care personnel, 1998, Part F: Pregnant Personnel, and its corresponding recommendations in Part II of the 1998 Guideline. The 1998 Guideline provided information and recommendations for Occupational Health Services (OHS) of healthcare facilities and systems on the prevention of transmission of infectious diseases among healthcare personnel (HCP) and patients and can be found at https://stacks.cdc.gov/view/cdc/11563.

In this document, “OHS” is used synonymously with “Employee Health,” “Employee Health Services,” “Employee Health and Safety,” “Occupational Health,” and other such programs. OHS refers to the group, department, or program that addresses many aspects of health and safety in the workplace for HCP, including the provision of clinical services for work-related injuries, exposures, and illnesses. In healthcare settings, OHS addresses workplace hazards including communicable diseases; slips, trips, and falls; patient handling injuries; chemical exposures; HCP burnout; and workplace violence.

This Draft Guideline: Pregnant Healthcare Personnel Section update is part of a larger guideline update: Infection Control in Healthcare Personnel. Part I, Infrastructure and Routine Practices for Occupational Infection Prevention and Control Services (2019) and the Diphtheria, Group A Streptococcus, Meningococcal Disease, Pertussis, and Rabies sections of Part II, Epidemiology and Control of Selected Infections Transmitted Among Healthcare Personnel and Patients (2022) are complete and have been published on the CDC Infection Control Guideline website: https://www.cdc.gov/infectioncontrol/guidelines/healthcare-personnel/index.html. The Draft Guideline: Pregnant Healthcare Personnel Section, once finalized, is intended for use by the leaders and staff of OHS to guide the provision of occupational infection prevention and control services to HCP who are pregnant or intend to become pregnant.

Since 2015, the Healthcare Infection Control Practices Advisory Committee (HICPAC) has worked with national partners, academicians, public health professionals, healthcare providers, and other partners to develop Infection Control in Healthcare Personnel (https://www.cdc.gov/infectioncontrol/guidelines/healthcare-personnel/index.html) as a segmental update of the 1998 Guideline. HICPAC is a federal advisory committee appointed to provide advice and guidance to HHS and CDC regarding the practice of infection control and strategies for surveillance, prevention, and control of healthcare-associated infections, antimicrobial resistance, and related events in United States healthcare settings. HICPAC includes representatives from public health, infectious diseases, regulatory and other federal agencies, professional societies, and other stakeholders. Draft Guideline: Pregnant Healthcare Personnel Section, once finalized, will be the next section to be posted to the Infection Control in Healthcare Personnel website.

The updated draft recommendation in Draft Guideline: Pregnant Healthcare Personnel Section is informed by reviews of the 1998 Guideline; CDC resources (e.g., CDC infection control website), guidance, and guidelines as noted more specifically in the draft document; and new scientific evidence, when available. CDC is seeking comments on the Draft Guideline: Pregnant Healthcare Personnel Section. Please provide references to new evidence and justification to support any suggested revisions or additions. This Draft Guideline: Pregnant Healthcare Personnel Section is not a federal rule or regulation.

Tiffany Brown,
Executive Secretary, Centers for Disease Control and Prevention.

[FR Doc. 2023-08804 Filed 4-25-23; 8:45 am]

BILLING CODE 4163-18-P